ENVIRONMENTAL PROTECTION AGENCY

40 CFR Part 52

[OH118-2; FRL-7171-1]

Approval and Promulgation of Implementation Plans; Ohio; Withdrawal of Direct Final Rule

AGENCY: Environmental Protection Agency (EPA).

ACTION: Direct final rule; withdrawal.

SUMMARY: Due to adverse comments, the EPA is withdrawing the direct final rule approving the State Implementation Plan (SIP) for New Source Review (NSR) provisions for nonattainment areas for the Ohio Environmental Protection Agency (OEPA). In the direct final rule published on February 21, 2002 (67 FR 7954), EPA stated that if EPA receives adverse comment by March 25, 2002, the rule would be withdrawn and not take effect. EPA subsequently received adverse comment. EPA will address the comments received in a subsequent final action based upon the proposed action also published on February 21, 2002 (67 FR 7996). EPA will not institute a second comment period on this action.

EFFECTIVE DATE: The direct final rule is withdrawn as of April 16, 2002.

FOR FURTHER INFORMATION CONTACT: Kaushal Gupta or Jorge Acevedo, Environmental Engineer, Regulation Development Section, Air Programs Branch (AR-18J), U.S. Environmental Protection Agency, Region 5, 77 West Jackson Boulevard, Chicago, Illinois 60604, Telephone: (312) 886-6803, (312) 886-2263.

List of Subjects in 40 CFR Part 52

Environmental protection, Air pollution control, Carbon monoxide, Incorporation by reference, Intergovernmental relations, Lead, Nitrogen dioxide, Ozone, Particulate matter, Sulfur dioxide, Volatile organic compounds.

Dated: April 4, 2002.
David A. Ullrich,
Acting Regional Administrator, Region 5.

PART 52—[AMENDED]

Accordingly, the addition of 40 CFR 52.1870(c)(126) is withdrawn as of April 16, 2002.

[FR Doc. 02-9068 Filed 4-15-02; 8:45 am]

BILLING CODE 6560-50-P